DEPARTMENT OF DEFENSE

Defense Acquisition Regulations System

[Docket Number DARS-2013-0035]

Information Collection Requirement; Defense Federal Acquisition Regulation Supplement; Organizational Conflict of Interest in Major Defense Acquisition Programs

AGENCY: Defense Acquisition Regulations System, Department of Defense (DoD).

ACTION: Notice and request for comments regarding a proposed extension of an approved information collection requirement.

SUMMARY: In compliance with section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through December 31 2013. DoD proposes that OMB extend its approval for use for three additional years.

DATES: DoD will consider all comments received by December 23, 2013.

ADDRESSES: You may submit comments, identified by OMB Control Number 0704-0477, using any of the following methods:

○ Federal eRulemaking Portal: http://www.regulations.gov. Follow the instructions for submitting comments.

○ Email: dfars@osd.mil. Include OMB Control Number 0704-0477 in the subject line of the message.

○ Fax: (571) 372-6094.

○ Mail: Defense Acquisition Regulations System, Attn: Annette Gray, OUSD(AT&L)DPAP(DARS), 3B855, 3060 Defense Pentagon, Washington, DC 20301-3060.

Comments received generally will be posted without change to http://www.regulations.gov, including any personal information provided.

FOR FURTHER INFORMATION CONTACT: Ms. Annette Gray,(571)372-6093. The information collection requirements addressed in this notice are available on the World Wide Web at: http://www.acq.osd.mil/dpap/dars/dfars/index.htm. Paper copies are available from Ms. Annette Gray, OUSD(AT&L)DPAP(DARS), 3B855, 3060 Defense Pentagon, Washington, DC 20301-3060.

SUPPLEMENTARY INFORMATION: Title and OMB Number: Defense Federal Acquisition Regulation Supplement (DFARS) subpart 209.5, Organizational and Consultant Conflicts of Interest, and related provision at DFARS 252.209-7008, Notice of Prohibition Relating to Organizational Conflict of Interest-Major Defense Acquisition Program; OMB Control Number 0704-0477.

Needs and Uses: This information collection requires an offeror to submit a mitigation plan if requesting an exemption from the statutory limitation on future contracting. This information will be used to resolve organizational conflicts of interest arising in a systems engineering and technical assistance contract for an MDAP, as required by section 207 of WSARA.

Affected Public: Businesses or other for-profit and not-for-profit institutions.

Annual Burden Hours: 3,000.

Number of Respondents: 25.

Responses per Respondent: 3.

Annual Responses: 75.

Average Burden per Response: 40 hours.

Frequency: On occasion.

Summary of Information Collection

This information collection includes requirements of DFARS subpart 209.5, Organizational and Consultant Conflicts of Interest, and the related provision at DFARS 252.209-7008, Notice of Prohibition Relegating to Organizational Conflict of Interest-Major Defense Acquisition Program. DFARS subpart 209.5, Organizational and Consultant Conflicts of Interest, implements section 207 of the Weapons system Acquisition Reform Act of 2009 (Pub. L. 111-23). The provision at DFARS 252.209-7008 paragraph (d) requires an offeror to submit a mitigation plan if requesting an exemption from the statutory limitation on future contracting.

Manuel Quinones,
Editor, Defense Acquisition Regulations System.

[FR Doc. 2013-25037 Filed 10-23-13; 8:45 am]

BILLING CODE 5001-06-P